DEPARTMENT OF TRANSPORTATION

Office of the Secretary

Application of LIMA NY Corp. for Commuter Air Carrier Authority

AGENCY: Department of Transportation.

ACTION: Notice of Order To Show Cause (Order 2016-7-1) Docket DOT-OST-2015-0014.

SUMMARY: The Department of Transportation is directing all interested persons to show cause why it should not issue an order finding LIMA NY Corp. fit, willing, and able, and awarding it commuter air carrier authority to conduct scheduled commuter service.

DATES: Persons wishing to file objections should do so no later than July 15, 2016.

ADDRESSES: Objections and answers to objections should be filed in Docket DOT-OST-2015-0014 and addressed to Docket Operations, (M-30, Room W12-140), U.S. Department of Transportation, 1200 New Jersey Avenue SE., Washington, DC 20590, and should be served upon the parties listed in Attachment A to the order.

FOR FURTHER INFORMATION CONTACT: Barbara Snoden, Air Carrier Fitness Division (X-56, Room W86-471), U.S. Department of Transportation, 1200 New Jersey Avenue SE., Washington, DC 20590, (202) 366-4834.

Dated: July 1, 2016.
Jenny T. Rosenberg,
Acting Assistant Secretary for Aviation and International Affairs.

[FR Doc. 2016-16196 Filed 7-7-16; 8:45 am]

BILLING CODE 4910-9X-P